AGENCY FOR INTERNATIONAL DEVELOPMENT

Notice of Renewal of Charter of the Global Development Council

AGENCY: United States Agency for International Development.

ACTION: Notice of Charter Renewal.

SUMMARY: Pursuant to the Federal Advisory Committee Act, notice is hereby given of the renewal of the Charter of the President's Global Development Council.

Purpose of the Committee

The President's Global Development Council brings together representatives of a variety of sectors, including, among others, institutions of higher education, non-profit and philanthropic organizations, civil society, and private industry to inform U.S. global development policy and programs and to support new and existing public-private partnerships to advance the global development policy agenda.

The Charter is being renewed for two years effective from the date of filing on February 20, 2015.

FOR FURTHER INFORMATION CONTACT: Jayne Thomisee, 202-712-5506

Dated: February 19, 2015.
Christa White,
Committee Management Officer.

Charter of the President's Global Development Council

1. Committee's Official Designation

President's Global Development Council (Council).

2. Authority

Executive Order 13600 of February 9, 2012 provided the authority to establish the President's Global Development Council. The Council is established in accordance with the provisions of the Federal Advisory Committee Act (FACA) as amended, 5.U.S.C. App.

Executive Order 13652, Continuation of Certain Federal Advisory Committees, dated September 30, 2013, authorized the continuation of the Global Development Council until September 30, 2015.

3. Objectives and Scope of Activities

To advise and support the President, through the National Security Staff/National Economic Council staff, in furtherance of the policy set forth in the Executive Order establishing the Global Development Council and the President's Policy Directive on Global Development.

4. Description of Duties

To inform the policy and practice of U.S. global development policy and programs by providing advice to the President and other senior officials on issues including:

(i) Innovative, scalable approaches to development with proven demonstrable impact, particularly on sustainable economic growth and good governance;

(ii) Areas for enhanced collaboration between the Federal Government and public and private sectors to advance development policy;

(iii) Best practices for and effectiveness of research and development in low and middle income economies; and

(iv) Long-term solutions to issues central to strategic planning for U.S. development efforts.

To support new and existing public-private partnerships by:

(i) Identifying key areas for enhanced collaboration and any barriers to collaboration; and

(ii) Recommending concrete efforts that the private and public sectors together can take to promote economic development priorities and initiatives; and

(iii) Increase awareness and action in support of development by soliciting public input on current and emerging issues in the field of global development as well as bringing to the President's attention concerns and ideas that would inform policy options.

5. Agency or Official to Whom the Committee Reports

The Council reports to the President through the National Security Staff and the National Economic Council.

6. Support

Support to the Council is provided by staff of the Office of the Administrator at USAID.

7. Estimated Annual Operating Costs and Staff Years

The annual operating costs in dollars and person-years for the Council and subcommittees thereof are estimated to be approximately $250,000 and one staff year respectively.

8. Designated Federal Officer

The Designated Federal Officer (DFO) for the Council is the Executive Director of the President's Global Development Council. The Chair, in coordination with the National Security Staff/National Economic Staff, shall convene and preside at meetings, determine the agendas, and direct the Council's work. The DFO will assist the Chair and the National Security Staff/National Economic Staff in calling all of the advisory committee meetings, preparing all meeting agendas, attending Council meetings, and adjourning meetings.

9. Estimated Number and Frequency of Meetings

It is expected that the Council will hold approximately two public meetings annually. It's subcommittees and/or working groups, as and if requested by the Council, will meet as determined necessary.

10. Duration

The need for this advisory committee is continuing; however, this charter is subject to renewal every two years.

11. Termination

The Council shall terminate on September 30, 2015, two years after the date of Executive Order 136562 unless renewed by the President.

12. Membership and Designation

The membership of the Council shall be as follows:

(a) The Council shall be composed of the officials described in paragraph (b) of this section and not more than 12 individuals from outside the Federal Government appointed by the President. Appointed members of the Council may serve as representatives of a variety of sectors, including, among others, institutions of higher education, non-profit and philanthropic organizations, civil society, and private industry.

(b) The Secretary of State, the Secretary of the Treasury, the Secretary of Defense, the USAID Administrator, the Chief Executive Officer of the Millennium Challenge Corporation, the United States Trade Representative, and the Chief Executive Officer of the Overseas Private Investment Corporation shall serve as non-voting members of the Council and may designate, to perform the Council functions of the member, a senior-level official who is part of the member's department, agency, or office, and who is a full-time officer or employee of the Federal Government.

13. Subcommittees

The Council, in coordination with USAID, may create subcommittees and/or working groups as necessary. These subcommittees/working groups shall report back to the Council and not directly to a federal officer or agency.

14. Recordkeeping

The records of this Committee, all formally and informally established subcommittees/working groups shall be handled in accordance with General Records Schedule 26, Item 2, or other approved agency records disposition schedule. These records shall be available for public inspection and copying, subject to the Freedom of Information Act, 5 U.S.C. 552 and will be posted on the Council's Web site.

15. Filing Date

February 20, 2015.

[FR Doc. 2015-03807 Filed 2-20-15; 11:15 am]

BILLING CODE 6116-02-P